DEPARTMENT OF AGRICULTURE

Submission for OMB Review; Comment Request

The Department of Agriculture has submitted the following information collection requirement(s) to OMB for review and approval under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 17, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Industry Response to Noncompliance Records.

OMB Control Number: 0583-0146.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031, et seq.). These statutes mandate that FSIS protect the public by verifying that meat and poultry products are safe, wholesome, and properly labeled. If FSIS in-plant personnel discover non-compliances with regulatory requirements they issue Noncompliance Records (NRs). Establishment management then can respond in writing.

Need And Use of the Information: FSIS Form 5400-4 serves as FSIS's official record of noncompliance with one or more regulatory requirements. Inspection program personnel use the forms to document their findings and provide written notification of the establishment's failure to comply with regulatory requirement(s). The establishment management receives a copy of the form and has an opportunity to respond in writing using the Noncompliance Record form. Response by the establishment's management is voluntary.

Description of Respondents: Business or other for-profit.

Number of Respondents: 7,057.

Frequency of Responses: Reporting: On occasion.

Total Burden Hours: 13,996.

Food Safety and Inspection Service

Title: Certificate of Medical Examination.

OMB Control Number: 0583-0167.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by ensuring that meat, poultry, and egg products are safe, wholesome, and properly labeled.

FSIS uses the form titled Certificate of Medical Evaluation (FSIS 4339-1) to collect information to determine whether an applicant for an FSIS Food Inspector, Consumer Safety Inspector, or Veterinary Medical Officer in-plant position meets the Office of Personnel Management (OPM) approved medical qualification standards. FSIS employees ask their health care providers to complete the FSIS Form Medical Documentation for Employee's Reasonable Accommodation Request FSIS (4306-5) if they apply for a reasonable accommodation.

Need and USE of the Information: FSIS collects certificates of medical examination to determine whether an applicant for a Food Inspector, Consumer Safety Inspector, or Veterinary Medical Officer in-plant position meets the Office of Personnel Management (OPM)-approved medical qualification standards for the position. This form, Certificate of Medical Evaluation (FSIS 4339-1), ensures accurate collection of the required data. The OPM-approved medical qualification standards apply only to positions in FSIS, not positions in other Federal agencies.

When requesting that applicants for the positions listed above undergo the medical examination, a representative from FSIS notifies the applicants in writing of the reasons for the examination, the process, and the consequences of the failure to report for an examination or provide medical documentation. Any physical condition which would hinder an individual's full, efficient, and safe performance of his or her duties is considered disqualifying for employment, except when convincing evidence is presented that the individuals can perform the essential functions of the job efficiently and without hazard to themselves or others.

FSIS uses the FSIS Form 4306-5, “Medical Documentation for Employee's Reasonable Accommodation Request,” to help determine whether the Agency will provide reasonable accommodation to qualified individuals. In accordance with the Rehabilitation Act of 1973 and the Americans with Disabilities Act Amendments Act of 2008, FSIS makes reasonable accommodations for the known physical or mental limitations of qualified individuals with disabilities, unless the accommodation would impose an undue hardship on the operation of FSIS. FSIS requires medical information from a health care provider to determine whether the person's condition rises to the level of disability under the law and to determine whether the limitations can be effectively accommodated.

Description of Respondents: Individuals or households.

Number of Respondents: 1,250.

Frequency of Responses: Recordkeeping; Reporting: On occasion.

Total Burden Hours: 1,542.

Levi S. Harrell,
Departmental Information Collection Clearance Officer.

[FR Doc. 2025-19976 Filed 11-14-25; 8:45 am]

BILLING CODE 3410-DM-P